OFFICE OF PERSONNEL MANAGEMENT

Excepted Service

AGENCY: Office of Personnel Management.

ACTION: Notice.

SUMMARY: This notice identifies Schedule A, B, and C appointing authorities applicable to a single agency that were established or revoked from July 1, 2018 to July 31, 2018.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during July 2018.

Schedule B

No Schedule B Authorities to report during July 2018.

Schedule C

The following Schedule C appointing authorities were approved during July 2018.

Agency name | Organization name | Position title | Authorization No. | Effective date
DEPARTMENT OF AGRICULTURE | Office of the Secretary | White House Liaison | DA180144 | 07/10/2018
| Office of Risk Management Agency | Policy Advisor | DA180198 | 07/27/2018
| Office of Rural Housing Service | State Director—Iowa | DA180195 | 07/03/2018
|  | Confidential Assistant | DA180208 | 07/27/2018
DEPARTMENT OF COMMERCE | Office of Assistant Secretary Legislative and Intergovernmental Affairs | Intergovernmental Affairs Specialist | DC180151 | 07/03/2018
| Office of the Under Secretary | Senior Advisor | DC180154 | 07/03/2018
| Office of Public Affairs | Director of Speechwriting | DC180160 | 07/06/2018
| Office of Assistant Secretary for Industry and Analysis | Senior Advisor for Industry and Analysis | DC180157 | 07/11/2018
| Office of Business Liaison | Special Advisor | DC180166 | 07/20/2018
| Office of Director General of the United States and Foreign Commercial Service and Assistant Secretary for Global Markets | Senior Advisor and Director of Outreach | DC180163 | 07/23/2018
| Office of Legislative and Intergovernmental Affairs | Confidential Assistant | DC180165 | 07/27/2018
| Office of the Assistant Secretary for Export Administration | Special Advisor | DC180175 | 07/27/2018
DEPARTMENT OF DEFENSE | Office of the General Counsel | Attorney-Advisor | DD180103 | 07/02/2018
| Office of the Director, Operational Test and Evaluation | Special Assistant | DD180106 | 07/03/2018
| Office of the Under Secretary of Defense (Policy) | Special Assistant | DD180107 | 07/06/2018
| Office of the Assistant To the Secretary of Defense (Public Affairs) | Special Assistant | DD180109 | 07/19/2018
| Office of the Assistant Secretary of Defense (Legislative Affairs) | Special Assistant (Legislative Affairs) | DD180117 | 07/31/2018
DEPARTMENT OF THE ARMY | Office Deputy Under Secretary of Army | Personal and Confidential Assistant | DW180042 | 07/17/2018
| Office Assistant Secretary Army (Installations, Energy and Environment) | Special Assistant (Energy and Sustainability) | DW180041 | 07/19/2018
DEPARTMENT OF EDUCATION | Office for Civil Rights | Confidential Assistant | DB180052 | 07/17/2018
| Office of Communications and Outreach | Special Assistant (2) | DB180053 DB180056 | 07/27/2018 07/31/2018
| Office of Postsecondary Education | Confidential Assistant | DB180055 | 07/27/2018
| Office of Legislation and Congressional Affairs | Confidential Assistant | DB180054 | 07/30/2018
DEPARTMENT OF ENERGY | Office of General Counsel | Attorney-Advisor (General) | DE180114 | 07/02/2018
| Office of Assistant Secretary for Congressional and Intergovernmental Affairs | Legislative Affairs Advisor (3) | DE180093 DE180138 DE180116 | 07/03/2018 07/27/2018 07/11/2018
|  | Deputy Assistant Secretary for Senate Affairs | DE180148 | 07/30/2018
|  | Special Assistant | DE180144 | 07/10/2018
| Office of Assistant Secretary for Energy Efficiency and Renewable Energy | Senior Advisor Chief of Staff | DE180095 DE180136 | 07/03/2018 07/20/2018
| Office of the Under Secretary | Special Assistant | DE180103 | 07/03/2018
| Office of National Nuclear Security Administration | Director of Congressional Affairs | DE180110 | 07/03/2018
| Office of Assistant Secretary for Environmental Management | Senior Advisor (2) | DE180099 DE180132 | 07/13/2018 07/27/2018
| Office of Public Affairs | Press Secretary | DE180131 | 07/19/2018
|  | Special Assistant | DE180104 | 07/27/2018
| Office of Management | Special Advisor | DE180126 | 07/20/2018
| Office of the Chief Information Officer | Special Advisor | DE180128 | 07/24/2018
| Office of the Secretary | White House Liaison | DE180141 | 07/24/2018
| Office of Science | Senior Advisor | DE180129 | 07/27/2018
| Office of Economic Impact and Diversity | Senior Advisor on Minority Business | DE180140 | 07/30/2018
ENVIRONMENTAL PROTECTION AGENCY | Office of the Administrator Office of the Associate Administrator for Policy | White House Liaison Policy Advisor | EP180072 EP180078 | 07/02/2018 07/24/2018
| Office of the General Counsel | Attorney-Adviser (General) | EP180080 | 07/27/2018
| Office of the Assistant Administrator for Research and Development | Confidential Assistant | EP180082 | 07/27/2018
FEDERAL DEPOSIT INSURANCE CORPORATION | Office of Federal Deposit Insurance Corporation | Chief of Staff | FD180003 | 07/16/2018
GENERAL SERVICES ADMINISTRATION | Office of Strategic Communications | Senior Communications Advisor | GS180037 | 07/10/2018
DEPARTMENT OF HEALTH AND HUMAN SERVICES | Office of the Assistant Secretary for Legislation | Director of Oversight and Investigations | DH180189 | 07/02/2018
|  | Deputy Director of Oversight and Investigations | DH180191 | 07/19/2018
| Office of the Secretary | Senior Policy Advisor | DH180214 | 07/20/2018
|  | White House Liaison for Political Personnel, Boards and Commissions | DH180198 | 07/02/2018
| Office of Refugee Resettlement | Policy Advisor | DH180193 | 07/09/2018
| Office of the Director | Chief of Staff | DH180196 | 07/09/2018
| Office of Centers for Medicare and Medicaid Services | Senior Advisor | DH180180 | 07/11/2018
| Office of the Assistant Secretary for Public Affairs | Press Assistant | DH180157 | 07/13/2018
| Office of Administration for Children and Families | Chief of Staff | DH180218 | 07/19/2018
| Office of the Assistant Secretary for Health | Chief of Staff | DH180212 | 07/31/2018
DEPARTMENT OF HOMELAND SECURITY | Office of the Privacy Officer | Senior Advisor, Chief Privacy Officer and Chief Freedom of Information Act Officer | DM180239 | 07/10/2018
| Office of the Federal Emergency Management Agency | Director, Legislative Affairs | DM180242 | 07/13/2018
| Office of the Secretary | Advance Representative | DM180248 | 07/19/2018
| Office of the General Counsel | Special Assistant | DM180260 | 07/31/2018
DEPARTMENT OF HOUSING AND URBAN DEVELOPMENT | Office of the Administration Office of Public and Indian Housing | Briefing Book Coordinator Senior Advisor for Single Family Housing | DU180084 DU180087 | 07/12/2018 07/24/2018
| Office of Public Affairs | Digital Strategy Specialist | DU180066 | 07/30/2018
DEPARTMENT OF THE INTERIOR | Secretary's Immediate Office | Senior Advisor | DI180072 | 07/19/2018
DEPARTMENT OF JUSTICE | Office on Violence Against Women | Special Assistant | DJ180082 | 07/02/2018
| Office of the Attorney General | Director of Advance | DJ180104 | 07/02/2018
|  | Confidential Assistant | DJ180114 | 07/13/2018
| Office of Legal Policy | Counsel | DJ180111 | 07/16/2018
|  | Senior Counsel | DJ180106 | 07/10/2018
| Office of Public Affairs | Chief Speechwriter | DJ180112 | 07/11/2018
|  | Deputy Speechwriter and Media Affairs Specialist | DJ180110 | 07/16/2018
DEPARTMENT OF LABOR | Office of Wage and Hour Division | Chief of Staff | DL180075 | 07/11/2018
|  | Policy Advisor | DL180110 | 07/11/2018
| Office of Public Affairs | Deputy Communications Director | DL180108 | 07/11/2018
| Office of Federal Contract Compliance Programs | Deputy Director, Office of Federal Contract Compliance Programs | DL180114 | 07/19/2018
NATIONAL ENDOWMENT FOR THE ARTS | National Endowment for the Arts | Director of Federal Affairs | NA180004 | 07/30/2018
OFFICE OF MANAGEMENT AND BUDGET | Office of Electronic Government and Information Technology | Confidential Assistant | BO180033 | 07/09/2018
OFFICE OF PERSONNEL MANAGEMENT | Office of the Director | Special Assistant Confidential Assistant | PM180041 PM180046 | 07/17/2018 07/31/2018
| Office of Communications | Special Assistant for Advance | PM180053 | 07/19/2018
SMALL BUSINESS ADMINISTRATION | Office of Communications and Public Liaison | Deputy Associate Administrator | SB180033 | 07/03/2018
| Office of Capital Access | Special Advisor | SB180031 | 07/11/2018
DEPARTMENT OF STATE | Office of Bureau of Western Hemisphere Affairs | Senior Advisor | DS180053 | 07/02/2018
| Office of the Under Secretary for Civilian Security, Democracy, and Human Rights | Special Assistant | DS180055 | 07/06/2018
| Office of Bureau of Economic and Business Affairs | Special Assistant | DS180056 | 07/06/2018
| Office of Policy Planning | Senior Advisor | DS180062 | 07/13/2018
| Office of Bureau of Arms Control, Verification, and Compliance | Senior Advisor | DS180060 | 07/19/2018
DEPARTMENT OF TRANSPORTATION | Office of Public Affairs Office of Assistant Secretary for Governmental Affairs | Press Secretary Senior Advisor | DT180057 DT180062 | 07/03/2018 07/11/2018
| Office of Civil Rights | Senior Advisor | DT180064 | 07/11/2018
| Office of Assistant Secretary for Research and Technology | Special Assistant | DT180065 | 07/11/2018
DEPARTMENT OF THE TREASURY | Office of Secretary of the Treasury | Special Assistant and Media Affairs Coordinator | DY180094 | 07/11/2018
| Office of Assistant Secretary (Legislative Affairs) | Special Assistant for Legislative Affairs | DY180096 | 07/31/2018

The following Schedule C appointing authorities were revoked during July 2018.

Agency name | Organization name | Position title | Request No. | Date vacated
CONSUMER PRODUCT SAFETY COMMISSION | Office of Commissioners | Special Assistant (Legal) | PS140012 | 07/20/2018
DEPARTMENT OF AGRICULTURE | Office of Rural Business Service | Confidential Assistant | DA180180 | 07/02/2018
| Office of Communications | Press Assistant | DA170175 | 07/13/2018
| Office of Animal and Plant Health Inspection Service | Confidential Assistant | DA180131 | 07/15/2018
| Office of the Secretary | White House Liaison | DA170173 | 07/21/2018
DEPARTMENT OF COMMERCE | Office of the Assistant Secretary Legislative and Intergovernmental Affairs | Associate Director for Legislative Affairs Confidential Assistant | DC170080 DC170155 | 07/07/2018 07/07/2018
| Office of the Under Secretary | Press Secretary and Program Manager, Office of Public Affairs | DC170103 | 07/07/2018
|  | Senior Advisor | DC170085 | 07/07/2018
|  | Senior Advisor for Budget and Administration | DC170089 | 07/07/2018
| Office of Business Liaison | Special Assistant | DC170069 | 07/21/2018
OFFICE OF THE SECRETARY OF DEFENSE | Office of the Secretary of Defense | Special Assistant to the White House Liaison | DD180075 | 07/13/2018
| Office of the Under Secretary of Defense (Policy) | Special Assistant to the Principal Deputy Under Secretary of Defense for Policy | DD180026 | 07/14/2018
| Office of Washington Headquarters Services | Defense Fellow | DD170194 | 07/28/2018
DEPARTMENT OF EDUCATION | Office of Postsecondary Education | Confidential Assistant | DB170137 | 07/01/2018
| Office of the General Counsel | Attorney Advisor | DB170144 | 07/06/2018
| Office of the Secretary | Special Assistant | DB180005 | 07/17/2018
|  | Confidential Assistant | DB170085 | 07/27/2018
| Office of Legislation and Congressional Affairs | Special Assistant (Supervisory) | DB180025 | 07/20/2018
| Office of the Under Secretary | Special Assistant for Strategic Operations | DB150108 | 07/29/2018
DEPARTMENT OF ENERGY | Office of the Assistant Secretary for Congressional and Intergovernmental Affairs | Senior Legislative Advisor | DE180042 | 07/07/2018
| Office Policy | Senior Analyst for Energy Security | DE180002 | 07/07/2018
| Office of the Secretary | Special Assistant to the White House Liaison | DE170109 | 07/07/2018
| Office of Assistant Secretary for Energy Efficiency and Renewable Energy | Senior Advisor | DE170168 | 07/21/2018
| Office of Management | Special Assistant | DE170207 | 07/21/2018
| Office of Public Affairs | Press Secretary | DE170129 | 07/21/2018
DEPARTMENT OF HEALTH AND HUMAN SERVICES | Office of the Assistant Secretary for Financial Resources | Director of Strategic Projects and Policy Initiatives | DH180124 | 07/08/2018
| Office of the Assistant Secretary for Public Affairs | Policy Advisor | DH180002 | 07/20/2018
DEPARTMENT OF HOMELAND SECURITY | Office of the Assistant Secretary for Public Affairs | Communications Director | DM170148 | 07/27/2018
DEPARTMENT OF HOUSING AND URBAN DEVELOPMENT | Office of the Deputy Secretary | Senior Policy Advisor | DU180022 | 07/07/2018
DEPARTMENT OF JUSTICE | Office of the Attorney General | Director Advance | DJ170103 | 07/13/2018
| Office of the Deputy Attorney General | Counsel | DJ170072 | 07/14/2018
| Office of Civil Division | Senior Counsel | DJ170187 | 07/15/2018
| Office of Public Affairs | Deputy Speechwriter | DJ170111 | 07/02/2018
|  | Chief Speechwriter | DJ170109 | 07/15/2018
|  | Principal Deputy Director | DJ170037 | 07/21/2018
DEPARTMENT OF LABOR | Office of the Solicitor | Senior Counselor to the Solicitor | DL170098 | 07/07/2018
| Office of Federal Contract Compliance Programs | Senior Advisor | DL170102 | 07/21/2018
| Office of the Secretary | Special Assistant | DL170075 | 07/21/2018
DEPARTMENT OF THE NAVY | Office of the Assistant Secretary of Navy (Financial Management and Comptroller) | Special Assistant | DN170020 | 07/22/2018
DEPARTMENT OF TRANSPORTATION | Office of Public Affairs | Special Assistant | DT170124 | 07/14/2018
ENVIRONMENTAL PROTECTION AGENCY | Office of Public Affairs Office of the Associate Administrator for Congressional and Intergovernmental Relations | Press Secretary Special Advisor | EP180004 EP180026 | 07/14/2018 07/23/2018
OFFICE OF PERSONNEL MANAGEMENT | Office of Communications Office of the Director | Speech Writer Executive Assistant to the Director | PM170028 PM180013 | 07/13/2018 07/21/2018
|  | Special Assistant for Advance | PM180028 | 07/21/2018
SMALL BUSINESS ADMINISTRATION | Office of Congressional and Legislative Affairs | Deputy Assistant Administrator Legislative Assistant | SB170015 SB180022 | 07/23/2018 07/23/2018

Authority: 5 U.S.C. 3301 and 3302; E.O. 10577, 3 CFR, 1954-1958 Comp., p. 218.

Office of Personnel Management.
Alexys Stanley,
Regulatory Affairs Analyst.

[FR Doc. 2019-04549 Filed 3-12-19; 8:45 am]

BILLING CODE 6325-39-P